COMMITTEE FOR PURCHASE FROM PEOPLE WHO ARE BLIND OR SEVERELY DISABLED

Procurement List; Additions

AGENCY: Committee for Purchase From People Who are Blind or Severely Disabled.

ACTION: Additions to Procurement List.

SUMMARY: This action adds to the Procurement List products and services to be furnished by nonprofit agencies employing persons who are blind or have other severe disabilities.

DATES: Effective September 4, 2005.

ADDRESSES: Committee for Purchase From People Who are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly@jwod.gov.

SUPPLEMENTARY INFORMATION: On May 27, June 3, and June 10, 2005, the Committee for Purchase From People Who are Blind or Severely Disabled published notice (70 FR 30692, 32570, and 33883) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

Memorandum Book.

NSN: 7530-01-060-7511L—Leaves, Memorandum Book, 3½″ × 4½″.

NSN: 7530-01-060-7511B—Memorandum Book, Size 3½″ × 4½″.

NSN: 7530-00-243-9366B—Memorandum Book, Size 3½″ × 6″

NSN: 7530-00-243-9366L—Leaves, Memorandum Book, 3⅓″ × 6″.

NSN: 7530-00-222-0078L—Leaves, Memorandum Book, 6″ × 3½″.

NSN: 7530-00-222-0078B—Memorandum Book, Size 6″ × 3½″.

NPA: Association for the Blind & Visually Impaired & Goodwill Industries of Greater Rochester, Rochester, New York.

Contracting Activity: Government Printing Office, Washington, DC.Services

Service Type/Location: Contract Support Services, Fort Hood, Texas.

NPA: Training, Rehabilitation, & Development Institute, Inc., San Antonio, Texas.

Contracting Activity: Army III Corps and Ft Hood Contracting CMD, Ft. Hood, Texas.

Service Type/Location: Custodial & Grounds Maintenance, U.S. Secret Service Command Post, 1 Woodland Drive, Plains, Georgia.

NPA: Middle Flint Behavioral HealthCare—Sumter County MR Center, Americus, Georgia.

Contracting Activity: GSA, Property Management Center (4PMB), Atlanta, Georgia.

Service Type/Location: Custodial Services, USDA, Animal and Plant Health Inspection Service, 6901 West Sunrise Blvd, Plantation, Florida.

NPA: Abilities, Inc. of Florida, Clearwater, Florida.

Contracting Activity: USDA, Animal & Plant Health Inspection Service, Minneapolis, Minnesota.

Service Type/Location: Hospital Housekeeping Services, 36th Medical Group Clinic, Andersen AFB, Guam.

NPA: Able Industries of the Pacific, Tamuning, Guam.

Contracting Activity: 36th U.S. Air Force Contracting Squadron/LGCD, Andersen AFB, Guam.

This action does not affect current contracts awarded prior to the effective date of this addition or options that may be exercised under those contracts.

G. John Heyer,
General Counsel.

[FR Doc. E5-4221 Filed 8-4-05; 8:45 am]

BILLING CODE 6353-01-P